DEPARTMENT OF HEALTH AND HUMAN SERVICES

National Institutes of Health

Office of Portfolio Analysis and Strategic Initiatives, Office of the Director, National Institutes of Health; Notice of Meeting

Notice is hereby given of a planning meeting for the proposed Council of Councils, an external advisory panel to the NIH IC Directors and the Office of Portfolio Analysis and Strategic Initiatives (OPASI).

The meeting will be open to the public, with attendance limited to space available. individuals who plan to attend and need special assistance, such as sign language interpretation or other reasonable accommodations, should notify the Contact Person listed below in advance of the meeting.

Name of Committee: Council of Councils Planning Group.

Date: November 8, 2007.

Time: 8:30 a.m. to 5:00 p.m.

Agenda: Among the topics proposed for discussion are: Role of the Council and timeline.

Place: National Institutes of Health, Building 31, Conference Room 6, 9000 Rockville Pike, Bethesda, MD 20892.

Contact Person: Robert D. Hammond, PhD, Consultant To OPASI, 301-977-9307, bhammond@thehillgroup.com.

Any interested person may file written comments with the committee by forwarding the statement to the Contact Person listed on this notice. The statement should include the name, address, telephone number, and when applicable, the business or professional affiliation of the interested person.

In the interest of security, NIH has instituted stringent procedures for entrance onto the NIH campus. All visitor vehicles, including taxicabs, hotel, and airport shuttles will be inspected before being allowed on campus. Visitors will be asked to show one form of identification (for example, a government-issued photo ID, driver's license, or passport) and to state the purpose of their visit.

Information is also available on the Institute's/Center's Web page: http://opasi.nih.gov/council/ where an agenda and any additional information for the meeting will be posted when available.

Dated: September 18, 2007.
Alan M. Krensky,
Director, Office of Portfolio Analysis and Strategic Initiatives (OPASI).

[FR Doc. 07-4932 Filed 10-3-07; 8:45 am]

BILLING CODE 4140-14-M